DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending December 31, 2005.

Last name | First name | Middle name/initials
YOUNG | DOREEN
YOUNG | NOEL
CLARK | KAREN
OCONNELL | EILEEN
LOUPERE | MARC
SICRE | FREDERIC
HO | VERONICA
OBERSCHNEIDER | PAUL | R
BRUNNING | ERIC | AKIRA
MACDONALD | VICTORIA | BACARDI
GOLD | KENNETH | O
PRENTICE | GEOFFREY
BAHOSHY | MAYA | YOUSIF
LEAL | DENISE | B
LEAL | RICARDO | P
O'MAHONY | ROSEMARY | M
BAGBY | SCOTT GEOFFREY | STEVENSON
VOHSEMER | PETER
VOHSEMER | ISABELLE
VOHSEMER | LISA | GABRIELA
BADIA-FERNAUD | JOSE | M
HOWELL | MICHAEL
OERTEL VON SELLE | INGRID
VALEN | STEN | JOHAN
DEWAZIERS | AUREUE | GHISLAINE VANDER CRUISSE
DEWAZIERS | VAN DER CRUISSE
TANG | HAMILTON | TY
BURGESS | GARY
TWEEBOOM | NORMAN | LIONEL
MA | LILLIAN | LING CHEUNG
VIK | NANCY | ALICE
SHORT | ELIZABETH
JOHNSON | ROBERT | E
KHOURI | RASHA | S
DEDNER | DORIS | G E
D'ALVIELLA | CHARLES | GOBLET
GUIDON | YANN
BOURNE | MARCY | LEAVITT
ROOS | BODIL | MARIT
JOHANSSON | NICKLAS | JOHN
WINUP | MARGARET | JEAN
CHIANG | TIMOTHY | T
SINGH | RUPIKA
CORNELLA | GUIDO
JONES | PENELOPE | ANNE
DESSON | HERBERT | GRALEN
SIRRIS | ANGELO
NERGAARD | OLAV | ALEXANDER
BUTLER | LYNNE
DYER | JULIE | MARIE
DACOSTA | CHARLES
PALMER | ANDREW | NEWTON
REEVE | WILLIAM | F
AHLUWALIA | HARMOHAN | SINGH
BROSSETTE | GUILLEMETTE
ELVIN | CHARLES
KRIKIS | MARTINS
DE WAZIERS | NICOLAS | A
BREHM | GISELA | F
IACONO | SERAFINO
BERGSTROM | ERIC | JAMES
DAVIDGE | PETER | CLIFFORD
MASRI | OMAR | M
HUEHN | WERNER | J
KATO | MASAYA
AHLUWALIA | RODA | H
ELDHOLM | HENRY | ANDREAS
BOISSIER | JEAN | FRACOIS
CHOI | CRYSTAL | KA-YEE
LEE | WAI | L
JELEN | IVAN
JELEN | HILARY | PATRICIA
YU | HENRY | TATCHING
BLONDIN | CLAUDINE
VAN VARENBERG | JEAN | CLAUDE
HARBIN | MARK | TAYLOR
LEUNG | TSUNG | WAI
DAVIDGE | OLGA | THERESE
WONG | JOHN | P
JOHNSTON | MARY | ELIZABETH
LEE | JIN | YI
MAEKAWA | NORIKO
FONG | RYAN | YEN-HWUNG
MAEKAWA | KIYOSHI
HOGUE | PETER | E
NEUMANN | RICHARD | L
NEUMANN | WENDY | L
PHILLIPS | SUSAN | ANNE
LACROIX | PIERETTE
BALFOUR | ANDREW | L
PHILLIPS | JOHN | ROBERT
BUSTO-ADAN | ARMANDO | AURELIO
DEBUSTO | GABRIELA | ITURBIDE
GABETTI | ALESSANDRO
OWEN | CAROL | MARY
OWEN | ROBERT
DEWAART | EDO
DESOUCHES | THOMAS | HENRI

Dated: January 24, 2006.
Angie Kaminski,
Examinations Operations, Philadelphia Compliance Services.

[FR Doc. 06-1085 Filed 2-6-06; 8:45 am]

BILLING CODE 4830-01-P